DEPARTMENT OF COMMERCE

National Oceanic and Atmospheric Administration

RIN 0648-XE304

Mid-Atlantic Fishery Management Council (MAFMC); Meeting

AGENCY: National Marine Fisheries Service (NMFS), National Oceanic and Atmospheric Administration (NOAA), Commerce.

ACTION: Notice; public meeting.

SUMMARY: The Mid-Atlantic Fishery Management Council's (Council) Scientific and Statistical Committee (SSC) will hold a meeting.

DATES: The meeting will be held on Tuesday, November 24, 2015, from 1 p.m. to 4 p.m. For agenda details, see SUPPLEMENTARY INFORMATION.

ADDRESSES: The meeting will be held via webinar. Webinar connection details will be available at: http://www.mafmc.org.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: The Council's Scientific and Statistical Committee (SSC) will meet Tuesday, November 24, 2015 at 1 p.m. to review alternative methods for addressing missing 2014 survey data for spiny dogfish and to determine if any adjustment to its OFL/ABC recommendations for spiny dogfish are appropriate. Contact Jason Didden at (302) 526-5254 if you have questions about using a webinar to participate in a meeting. Briefing documents will be posted to http://www.mafmc.org/ssc when available.

Special Accommodations

This meeting is physically accessible to people with disabilities. Requests for sign language interpretation or other auxiliary aid should be directed to M. Jan Saunders, (302) 526-5251, at least 5 days prior to the meeting date.

Dated: November 4, 2015.
Tracey L. Thompson,
Acting Deputy Director, Office of Sustainable Fisheries, National Marine Fisheries Service.

[FR Doc. 2015-28430 Filed 11-6-15; 8:45 am]

BILLING CODE 3510-22-P